DEPARTMENT OF TRANSPORTATION

Federal Aviation Administration

Noise Exposure Map Notice; Little Rock National Airport, Little Rock, Arkansas

AGENCY: Federal Aviation Administration, DOT.

ACTION: Notice.

SUMMARY: The Federal Aviation Administration (FAA) announces its determination that the Noise Exposure Maps submitted by the city of Little Rock, acting through the Little Rock Municipal Airport Commission for Little Rock National Airport, under the provisions of Title 49, U.S.C., Chapter 475, (hereinafter referred to as “Title 49”) and 14 CFR part 150 are in compliance with applicable requirements.

EFFECTIVE DATE: The effective date of the FAA's determination on the Noise Exposure Maps is May 13, 2002.

FOR FURTHER INFORMATION CONTACT: Edward N. Agnew, Department of Transportation, Federal Aviation Administration, 2601 Meacham Boulevard, Fort Worth, Texas 76137, (817) 222-5630.

SUPPLEMENTARY INFORMATION: This notice announces that the FAA finds that the Noise Exposure Maps submitted for Little Rock National Airport are in compliance with applicable requirements of part 150, effective May 13, 2002. Under Title 49, an airport operator may submit to the FAA, Noise Exposure Maps which meet applicable regulations and which depict noncompatible land uses as of the date of submission of such maps, a description of projected aircraft operations, and the ways in which such operations will affect such maps. Title 49 requires such maps to be developed in consultation with interested and affected parties in the local community, government agencies, and persons using the airport.

An airport operator who has submitted Noise Exposure Maps that are found by the FAA to be in compliance with the requirements of Federal Aviation Regulations (FAR) part 150, promulgated pursuant to Title 49, may submit a noise compatibility program for FAA approval which sets forth the measures the operator has taken or proposes for the reduction of existing noncompatible uses and for the prevention of the introduction of additional noncompatible uses.

The city of Little Rock, acting through the Little Rock Municipal Airport Commission submitted to the FAA on May 1, 2002, Noise Exposure Maps, descriptions and other documentation, which were produced during 2001 and 2002. It was requested that the FAA review this material as the Noise Exposure Maps, as described in Title 49.

The FAA has completed its review of the Noise Exposure Maps and related descriptions submitted by the city of Little Rock, acting through the Little Rock Municipal Airport Commission. The specific maps under consideration are Noise Exposure Map: 2000, Exhibit V-1 (page V-2) and Noise Exposure Map: 2006, Exhibit V-2 (page V-5) in the submission. The FAA has determined that these maps for Little Rock National Airport are in compliance with applicable requirements. This determination is effective on May 13, 2002. FAA's determination on an airport operator's Noise Exposure Maps is limited to a finding that the maps were developed in accordance with the procedures contained in Appendix A of FAR part 150. Such determination does not constitute approval of the applicant's data, information, or plans, or a commitment to approve a noise compatibility program or to fund the implementation of that program.

If questions arise concerning the precise relationship of specific properties to noise exposure contours depicted on a Noise Exposure Map submitted under Title 49, it should be noted that the FAA is not involved in any way in determining the relative locations of specific properties with regard to the depicted noise contours, or interpreting the Noise Exposure Maps to resolve questions concerning, for example, which properties should be covered by the provisions of Title 49. These functions are inseparable from the ultimate land use control and planning responsibilities of local government. These local responsibilities are not changed in any way under part 150 or through FAA's review of Noise Exposure Maps. Therefore, the responsibility for the detailed overlaying of noise exposure contours onto the map depicting properties on the surface, rests exclusively with the airport operator who submitted those maps, or with those public agencies and planning agencies with which consultation is required under Title 49. The FAA has relied on the certification by the airport operator, under section 150.21 of FAR part 150, that the statutorily required consultation has been accomplished.

Copies of the Noise Exposure Maps and the FAA's evaluation of the maps are available for examination at the following locations: Federal Aviation Administration, Airports Division, 2601 Meacham Boulevard, Fort Worth, Texas 76137; Little Rock National Airport, One Airport Drive, Little Rock, Arkansas 72202-4489.

Questions may be directed to the individual named above under the heading, FOR FURTHER INFORMATION CONTACT.

Issued in Fort Worth, Texas, May 13, 2002.
Naomi L. Saunders,
Manager, Airports Division.

[FR Doc. 02-13709 Filed 5-30-02; 8:45 am]

BILLING CODE 4910-13-M